DEPARTMENT OF COMMERCE

National Oceanic and Atmospheric Administration

50 CFR Part 679

[Docket No. 000119015-0015-01; I.D. 010500A]

RIN 0648-AM32

Fisheries of the Exclusive Economic Zone Off Alaska; Steller Sea Lion Protection Measures for the Pollock Fisheries Off Alaska

AGENCY: National Marine Fisheries Service (NMFS), National Oceanic and Atmospheric Administration (NOAA), Commerce.

ACTION: Emergency interim rule; revision to 2000 interim harvest specifications; request for comments.

SUMMARY: NMFS issues an emergency interim rule implementing reasonable and prudent alternatives (RPAs) to avoid the likelihood that the pollock fisheries off Alaska will jeopardize the continued existence of the western population of Steller sea lions or adversely modify its critical habitat. This emergency rule implements three types of management measures for the pollock fisheries of the Bering Sea and Aleutian Islands Management Area (BSAI) and Gulf of Alaska (GOA): Measures to temporally disperse fishing effort; measures to spatially disperse fishing effort; and measures to provide sufficient protection from fisheries competition for prey in waters adjacent to rookeries and important haulouts. These emergency measures are necessary to avoid jeopardy and adverse modification.

DATES: Effective January 20, 2000, through July 19, 2000. Comments must be received by February 24, 2000.

ADDRESSES: Comments may be sent to Sue Salveson, Assistant Regional Administrator, Sustainable Fisheries Division, Alaska Region, NMFS, P.O. Box 21668, Juneau, AK, 99802, Attn: Lori Gravel, or delivered to the Federal Building, 709 West 9th Street, Juneau, AK. Copies of the Biological Opinion (BiOp) on the pollock fisheries of the BSAI and GOA and the Atka mackerel fishery of the Aleutian Islands subarea, the Revised Final Reasonable and Prudent Alternatives (RFRPAs), and the Environmental Assessment/Regulatory Impact Review (EA/RIR) prepared for the emergency interim rule may be obtained from the same address. The BiOp and the RFRPAs are also available on the Alaska Region home page at http://www.fakr.noaa.gov. Comments will not be accepted if submitted via e-mail or Internet.

FOR FURTHER INFORMATION CONTACT: Shane Capron, 907-586-7228 or shane.capron@noaa.gov

SUPPLEMENTARY INFORMATION: NMFS manages the groundfish fisheries in the exclusive economic zone off Alaska under the Fishery Management Plan for the Groundfish Fishery of the Bering Sea and Aleutian Islands Area and the Fishery Management Plan for Groundfish of the Gulf of Alaska (FMPs). The North Pacific Fishery Management Council (Council) prepared the FMPs under the authority of the Magnuson-Stevens Fishery Conservation and Management Act (Magnuson-Stevens Act), 16 U.S.C. 1801 et seq. Regulations governing U.S. fisheries and implementing the FMPs appear at 50 CFR parts 600 and 679.

Background

In 1990, NMFS designated the Steller sea lion as a threatened species under the Endangered Species Act of 1973 (ESA). The designation followed severe declines throughout much of the GOA and Aleutian Islands region. In 1993, NMFS defined critical habitat for the species to include (among other areas), the marine areas within 20 nautical miles (nm) of major rookeries and haulouts of the species west of 144° W long. In 1997, NMFS recognized two separate populations, and reclassified the western population (west of 144° W long.) as endangered.

NMFS first began collecting information on the abundance of Steller sea lions during the 1950s and 1960s. However, the first counts based on reliable data were not available until the late 1970s; these counts reported approximately 109,800 animals. During the 1980s, a precipitous decline of Steller sea lions was observed. By 1996, counts declined to only 22,000 animals, a decline of 80 percent from the late 1970s. Counts of adult and juvenile Steller sea lions have continued to decline over the last few years, but at a lower rate. Due to the small population size, these recent reductions may be a serious obstacle to the recovery of the western population of Steller sea lions.

Multiple factors have contributed to the decline, but considerable evidence indicates that lack of available prey is a serious problem. Foraging studies confirm that Steller sea lions depend on pollock as a major prey source, and that they may be particularly sensitive to any reduced availability of prey during the winter. The significance of pollock in the diet of sea lions may have increased since the 1970s due to shifts in the Bering Sea ecosystem related to atmospheric and oceanographic changes. Pollock are also the target of the largest commercial fisheries in Alaska, fisheries that have grown increasingly concentrated in time and area. This concentration of effort occurs largely in areas designated as Steller sea lion critical habitat and may reduce prey availability during critical times in the life history of sea lions. Additional information on Steller sea lions and the pollock fisheries of the BSAI and GOA is contained in the BiOp and in the EA/RIR prepared for this action (see ADDRESSES).

Purpose and Need for Action

In accordance with the requirements of the ESA, the NMFS Office of Protected Resources issued a BiOp dated December 3, 1998, revised December 16, 1998, on the pollock fisheries of the BSAI and GOA and the Atka mackerel fishery of the Aleutian Islands subarea. The BiOp concluded that the BSAI and GOA pollock trawl fisheries, as projected for 1999 through 2002, were likely to jeopardize the endangered western population of Steller sea lions and destroy or adversely modify critical habitat designated for this population. “To jeopardize” means “to engage in an action that reasonably would be expected, directly or indirectly, to reduce appreciably the likelihood of both the survival and recovery of a listed species in the wild by reducing the reproduction, numbers, or distribution of that species” (50 CFR 402.02). The clause “adversely modify its critical habitat” means “a direct or indirect alteration that appreciably diminishes the value of critical habitat for both the survival and recovery of a listed species. Such alterations include, but are not limited to, alterations adversely modifying any of those physical or biological features that were the basis for determining the habitat to be critical” (50 CFR 402.02). The BiOp also concluded that the Atka mackerel fishery, as modified by recent regulatory changes (64 FR 3446; January 22, 1999), was not likely to jeopardize the endangered western population of Steller sea lions or destroy or adversely modify its critical habitat.

The BiOp did not prescribe a single set of RPAs for the BSAI and GOA pollock fisheries but rather established a framework to avoid the likelihood of jeopardizing the continued existence of the western population of Steller sea lions or adversely modifying its critical habitat. The framework consisted of three principles: (1) Temporal dispersion of fishing effort, (2) spatial dispersion of fishing effort, and (3) protection from fisheries competition for Steller sea lion prey in waters adjacent to rookeries and important haulouts. For each of these principles, the BiOp provided guidance on the development of management measures to meet the objectives and, ultimately, to avoid jeopardy and adverse modification. The BiOp stated that certain conservation measures could be phased in over a 2-year period.

In December 1998, NMFS staff briefed the Council on the BiOp. The Council then prepared recommendations for alternative management measures based on the RPA guidelines to avoid jeopardy and adverse modification. The Council's recommendation did not contain Bering Sea subarea (BS) B and C season specifications. However, the Council planned to recommend B and C season measures prior to the second half of 1999. The Council also recommended closing all but nine of the haulout zones specified by the BiOp in the BSAI and GOA. NMFS determined these recommendations to be acceptable as part of a 2-year phase-in strategy, in which equivalent or better protections would be extended for those areas for 2000 and beyond.

On December 16, 1998, NMFS adopted the measures recommended by the Council (with modifications) into the BiOp as part of an RPA for the fisheries. NMFS published an emergency interim rule implementing RPAs in the Federal Register on January 22, 1999 (64 FR 3437), amended on February 17, 1999 (64 FR 7814) and on February 25, 1999 (64 FR 9375), which was effective through July 19, 1999. The preamble to the emergency rule provides a detailed description of the purpose and need for the implementation of emergency measures in 1999.

The Council met again in February, April, and June 1999, to consider recommendations for extending the emergency rule for the second half of 1999, and, at its June meeting, voted to extend the emergency rule. Using the Council's recommendation, NMFS extended the emergency rule through December 31, 1999 (64 FR 39087, July 21, 1999; technical amendment 64 FR 43297, August 10, 1999), with revisions to include specifications for the B and C seasons in the BS.

In June 1999, the Council also deliberated on various management measures to implement permanently the RPA guidelines as described in the BiOp for 2000 and beyond. After significant debate and public comment, the Council voted to recommend a series of conservation measures to protect Steller sea lions.

Greenpeace, the American Oceans Campaign, and the Sierra Club challenged the BiOp in the U.S. District Court for the Western District of Washington. In an Order issued on July 9, 1999 (and amended on July 13, 1999), the Court upheld NMFS’ no-jeopardy conclusion for the Atka mackerel fishery and the jeopardy conclusion for the pollock fisheries. However, the Court also found that “the Reasonable and Prudent Alternatives * * * were arbitrary and capricious * * * because they were not justified under the prevailing legal standards and because the record does not support a finding that they were reasonably likely to avoid jeopardy.” On August 6, 1999, the Court remanded the BiOp back to NMFS for further analysis and explanation.

To comply with the Court's Order, NMFS conducted additional analyses and developed revised final RPAs (RFRPAs, October 15, 1999). The RFRPAs describe management measures that will avoid the likelihood that the pollock fisheries authorized by NMFS' regulations will jeopardize the continued existence of the endangered western population of Steller sea lions or adversely modify its critical habitat.

NMFS has determined that the Council's recommended measures, with certain modifications to season dates, haulout protections, and spatial dispersion in the Bering Sea, achieve the principles identified in the BiOp and the RFRPAs. The Council's recommendation, modified as necessary to avoid jeopardy and adverse modification, therefore forms the basis for the management measures contained in this emergency interim rule.

Elements of the Emergency Rule

Pollock Trawl Exclusion Zones

Under this emergency interim rule, directed fishing for pollock is prohibited within either 10 or 20 nm of rookeries and haulouts in the BS and GOA. The location, size, and period of each exclusion zone are set out in Tables 12, 13, and 20 of 50 CFR part 679. Table 20 for the Aleutian Islands subarea (AI), is reprinted to be consistent in format with Tables 12 and 13, however, no substantive changes were made (see the following discussion).

NMFS approved these exclusion zones on the basis of 10 Steller sea lion counts conducted since 1979, during the reproductive season (summer) and non-reproductive season (winter). NMFS used the following criteria to identify sites that require exclusion zones and to determine the period of the closure and the radius of the zone:

1. Rookeries If the site is a rookery, a 10 or 20-nm year-round pollock trawl exclusion zone.

2. Summer haulouts If the site is a summer haulout, with greater than 200 sea lions in a summer survey since 1979, and less than 75 sea lions in winter surveys since 1979, a 10 or 20-nm pollock trawl exclusion zone from June 1 through November 1.

3. Winter haulouts If the site is a winter haulout, with less than 200 sea lions in summer surveys since 1979, and greater than 75 sea lions in a winter survey since 1979, a 10 or 20-nm pollock trawl exclusion zone from November 1 through June 1.

4. Year-round haulouts If the site is a year-round haulout with greater than 200 sea lions in a summer survey since 1979, and greater than 75 sea lions in a winter survey since 1979, a 10 or 20 nm year-round pollock trawl exclusion zone.

The size of the exclusion zones in each area reflects the relative widths of the continental shelf. In the BS, the shelf is relatively wide and exclusion zones have radii of 20 nm. In the GOA, the shelf is narrower and exclusion zones have radii of 10 nm.

The BiOp allowed for a 2-year phase-in schedule for certain RFRPA measures including rookeries and haulout trawl exclusion zones. In the BSAI, under the emergency rule provisions for 1999, all exclusion zones had a 20-nm radius except for the Cape Sarichef zone, which had only a 10-nm raduis. For 2000 and beyond, the Council has recommended that the Cape Sarichef zone have a 20-nm radius, consistent with the BiOp. Therefore, under the emergency interim rule, all 25 exclusion zone sites in the BS are closed to trawling for pollock for a radius of 20 nm.

In the GOA, 53 sites qualified for closure to 10 nm, under criteria in the BiOp. However, in recommending management measures for 2000 and beyond, the Council recommended no closure for the eight sites exempted under the previous emergency rule, and recommended an additional site, Spitz Island, be exempted. The Council's recommendation included no closures around Cape Barnabas, Gull Point, and Cape Ikolik, and modified trawl exclusion zones around Rugged Island, Point Elrington, The Needles, Mitrofania Island, Spitz Island, and Sea Lion Rocks. NMFS has reviewed these sites in the RFRPAs and determined that they require additional protection, and therefore is implementing an alternative suite of management measures.

Sites around Point Elrington and The Needles meet the criteria for pollock trawl exclusion zones but are not established as exclusion zones under this emergency interim rule. The sites lie entirely within Alaska State waters. Pollock fisheries in these areas are not managed under Federal regulations implementing FMPs. The State of Alaska has indicated its intent to develop equivalent protection measures for these haulouts in 2000. However, if the State fails to develop adequate protection measures for these two sites, NMFS will implement additional protection measures in these areas in 2001 under the authority of the ESA.

This emergency interim rule closes Sea Lion Rocks for a radius of 10 nm to all vessels greater than 60 ft (18.3 m) length overall (LOA). Due to safety concerns for small boats in the region and the relatively lower levels of harvests by these vessels, the area is not closed to vessels less than or equal to 60 ft (18.3 m) LOA. Historically, from 1994 through 1998, vessels longer than 60 ft (18.3 m) LOA have accounted for 72 percent of total harvests in this area. The RFRPAs concluded that excluding vessels greater than 60 ft (18.3 m) LOA from fishing within 10 nm of Sea Lion Rocks, and the subsequent harvest reductions under this closure, would provide sufficient protection against localized depletions of pollock.

Cape Barnabas, Gull Point, Rugged Island, Cape Ikolik, Spitz Island, and Mitrofania Island were proposed by the Council to be included as pollock trawl exclusion zones for 2000 and beyond with a variety of exemptions. However, this emergency rule closes these areas because they have been determined to be critical to the recovery of the western population of Steller sea lions.

In the Bering Sea, the Walrus Island rookery also meets the requirements under the RPA guidelines for closure to 20 nm. However, because this site falls entirely within the Pribilof Island Area Habitat Conservation Zone (see § 679.22(a)(6)), which is closed to trawling year-round, a 20-nm closure of this area would be redundant and is not necessary.

Aleutian Islands Closure

The RFRPA guidelines require that the AI be closed to directed fishing for pollock to protect the waters surrounding rookeries and major haulouts of Steller sea lions. This closure was implemented in 1999, by a reduction in TAC allocated to this subarea that provided for incidental catch only, and then by emergency interim rule. The closure of the AI is continued by this emergency interim rule.

Bering Sea Management Measures

Steller sea lion conservation area (SCA). This emergency interim rule establishes a conservation area to regulate total removals of pollock. This area was previously referred to as the combined Critical Habitat/Catcher Vessel Operation Area in previous emergency rulemaking and in supporting documents. The SCA includes the portion of Bering Sea critical habitat known as the Bogoslof foraging area and the portion of the Catcher Vessel Operational Area (CVOA) that extends eastward from the Bogoslof foraging area. This eastern block of the CVOA overlaps with the pollock trawl exclusion zone for Sea Lion Rocks (Amak Island). Inclusion of this eastern block in the SCA is necessary to provide sufficient protection from concentrated fishing and resulting localized depletions of sea lion prey in (1) the narrow corridor between the Bogoslof foraging area and the Sea Lion Rocks (Amak Island) trawl exclusion zone and (2) these adjacent portions of critical habitat.

The SCA consists of the area of the BS between 170°00′ W long. and 163°00′ W long., south of straight lines connecting the following points in the order listed: 55°00′ N lat. 170°00′ W long.; 55°00′ N lat. 168°00′ W long.; 55°30′ N lat. 168°00′ W long.; 55°30′ N lat. 166°00′ W long.; 56°00′ N lat. 166°00′ W long.; 56°00′ N lat. 163°00′ W long.

This emergency interim rule restricts pollock harvests within the SCA to a percentage of each sector's seasonal directed fishing allowance (DFA) according to the percentages set forth in Table 2 of the preamble. In the Bering Sea, the DFA is the amount of pollock available for harvest by each industry sector after subtracting the incidental catch allowance (ICA).

NMFS will monitor catch by each industry sector and close the SCA to directed fishing for pollock by sector when NMFS determines that the specified SCA limit has been reached. In accordance with the Council's intent, inshore catcher vessels less than or equal to 99 ft (30.2 m) LOA are exempt from SCA closures during the fall and winter months unless the cap for the inshore sector has been reached. Under the authority of the American Fisheries Act (AFA), NMFS will separate the inshore fishery into cooperative and non-cooperative sector allocations. For each sector, NMFS will announce the closure of the SCA to catcher vessels over 99 ft (30.2 m) LOA before the inshore sector SCA limit is reached. NMFS will implement the closure in a manner intended to leave remaining quota within the SCA that is sufficient to support directed fishing for pollock by vessels less than or equal to 99 ft (30.2 m) LOA for the duration of the inshore sector opening. This measure will be implemented during the fall and winter seasons only because of vessel safety concerns during these time periods of severe weather.

Fishing seasons. This emergency interim rule establishes new fishing seasons for the four sectors of the Bering Sea pollock fishery that are defined in the AFA. These new fishing seasons are summarized in Table 1 or the preamble. This emergency rule also repeals existing “fair start” provisions that required vessels fishing for pollock in the BS to cease fishing for groundfish during the week preceding each pollock season or face a mandatory stand-down period during the first week of the pollock season. The Council has determined that these fair start requirements are no longer necessary and has recommended an exclusive seasonal system (see Table 1 in the preamble).

The Council recommended a complex suite of seasons, stand-downs, and SCA limits. Under the RFRPAs, NMFS determined that stand-downs between the A/B and C/D seasons were unnecessary outside the SCA. However, NMFS also determined that the SCA was of special concern and that lengthening the seasons to attain spatial and temporal dispersion was a priority in this area. Therefore, the season dates as proposed by the Council have been altered to reflect these requirements. All sectors now have the same fishing season dates as described in the following Table 1.

Table 1.—Bering Sea Subarea Pollock Fishing Seasons for All Sectors
Bering Sea Subarea | Season ¹: A | Season ¹: B | Season ¹: C | Season ¹: D
Outside the SCA ² | January 20—June 10 (combined A/B season) |  | June 10—November 1 (combined C/D season)
Inside the SCA | Jan. 20-April 1 | April 1-June 10 | June 10-Aug. 20 | Aug. 20-Nov. 1
¹ The time of all openings and closures of fishing seasons, other than the beginning and end of the calendar fishing year, is 1200 hours, A.l.t.
² For the area outside the SCA, there will be two seasonal pairs, A/B and C/D, that are allocated the annual Bering Sea subarea directed fishing allowance by sector. Fishing inside the SCA is authorized as a limit of the directed fishing allowance allocated to the area outside the SCA.

Temporal and Spatial Apportionment of DFA. The pollock DFA allocated to each industry sector is apportioned to the fishing seasons previously identified according to the formula set out in Table 2 of the preamble. The RFRPAs specify the amount of the total annual pollock TAC that can be taken from the SCA in each season: A season, 15 percent; B season, 5 percent; C season, 4.5 percent; D season, 7.5 percent. These limits are expressed as percentages of each sector's seasonal allocation of its DFA.

For example, if the inshore sector received an annual DFA allocation of 100,000 mt, 40 percent (40,000 mt) would be apportioned to the combined A/B season for the inshore sector. Of this amount, 42 percent (16,800 mt) could be taken within the SCA during the A season, and 14 percent could be taken within the SCA during the B season (5,600 mt).

Overages and underages of SCA amounts may be “rolled over” from the A season SCA limit to the B season SCA limit so that no single season exceeds 15 percent of the annual TAC, and that the combined A/B limit inside the SCA of 20 percent is not exceeded.

Table 2.—BS Apportionments of Pollock DFA in Percent by Season and Area
Industry sector | Seasonal DFA apportionment and harvest limits within the SCA (in percent): A/B (40% of annual DFA): A-SCA limit | Seasonal DFA apportionment and harvest limits within the SCA (in percent): A/B (40% of annual DFA): B-SCA limit | Seasonal DFA apportionment and harvest limits within the SCA (in percent): C/D (60% of annual DFA): C-SCA limit | Seasonal DFA apportionment and harvest limits within the SCA (in percent): C/D (60% of annual DFA): D-SCA limit
Inshore | 42 | 14 | 13.5 | 22.5
C/P | 24.75 | 8.25 | 0 | 0
Mothership | 37.5 | 12.5 | 0 | 0
CDQ | 62 | 20.5 | 14 | 23

Definition of Directed Fishing for Pollock CDQ

This emergency interim rule adds a definition for “directed fishing for pollock CDQ” that is necessary to enforce directed fishing closures that apply to both the CDQ and non-CDQ pollock fisheries. The CDQ groups are prohibited from exceeding any of their groundfish CDQ allocations and are required to manage the catch of vessels fishing on their behalf within these CDQ allocations. Therefore, NMFS does not use maximum retainable amounts, prohibited species catch status, and announcements of directed fishing closures to manage the CDQ fisheries, as is done to manage the non-CDQ fisheries. The definition of directed fishing for pollock CDQ implemented in this emergency interim rule is based on the percent pollock in each CDQ haul using the 60-percent threshold recommended by the Council at its June 1999 meeting. NMFS is preparing proposed rulemaking that would permanently implement a definition of directed fishing for pollock CDQ. However, that regulatory amendment will not be in place in time for the start of the trawl fisheries in January 2000. Under the definition added by this emergency interim rule, vessels fishing for the CDQ groups in any areas closed to directed fishing for pollock CDQ are prohibited from bringing onboard their vessel any trawl hauls in which pollock is equal to or greater than 60 percent of the total groundfish in the haul. Species composition collected by the observer onboard the vessel will be used to determine the percent pollock in each CDQ trawl haul.

Gulf of Alaska Management Measures

Fishing seasons and TAC apportionments. This emergency interim rule establishes new fishing seasons and pollock TAC apportionments in the Western and Central (W/C) Regulatory Areas of the GOA. These new fishing seasons are summarized in Table 3 of the preamble. The TAC for pollock in the combined W/C Regulatory Areas would continue to be apportioned among Statistical Areas 610, 620, and 630 in proportion to the distribution of the pollock biomass as determined by the most recent NMFS surveys. Consistent with current regulations, pollock fishing seasons are not implemented for the Eastern Regulatory Area.

Table 3.—Pollock Fishing Seasons and TAC Apportionments for the Western and Central Regulatory Areas of the Gulf of Alaska
Season | TAC Apportionment | Season Dates ¹
A | 30% | January 20-March 1.
B | 15% | March 15-May 31.
C | 30% | August 20-September 15.
D | 25% | October 1-November 1.
¹ The time of all openings and closures of fishing seasons, other than the beginning and end of the calendar fishing year, is 1200 hours, A.l.t.

2. Pollock TAC apportionment within the Shelikof Strait conservation area. Prior to 1999, pollock TAC within the W/C GOA was apportioned on the basis of biomass distribution as determined from triennial bottom trawl surveys. Bottom trawl surveys have been conducted in summer months, and additional hydroacoustic surveys have been conducted in winter months. These winter surveys indicate an extensive and relatively predictable spawning aggregation of pollock in the winter period in Shelikof Strait. Under the emergency rule in 1999, a cap was set for the harvest from Shelikof Strait based on previous hydroacoustic surveys, and the GOA TAC was distributed to areas 610, 620, and 630 based on the trawl surveys. The cap in Shelikof Strait was determined using the estimated biomass from the most recent hydroacoustic survey divided by the estimated total GOA biomass from population modeling, and the quotient then multiplied by the GOA TAC for the A season.

In the GOA, overall pollock fishery harvest rates have varied from about 5 percent of the total biomass to about 10 percent since 1990. Since 1994, the estimated harvest rate in Shelikof Strait has been on the order of 1 percent to 3 percent of the total biomass, well below the overall harvest rate for the GOA. This discrepancy suggests that the biomass of pollock in Shelikof Strait is under-utilized relative to the biomass of pollock outside the Strait and, relative to the overall harvest rate, pollock biomass outside the Strait must be over-utilized. This relative over-utilization of pollock outside Shelikof Strait may have a detrimental effect on the availability of pollock to Steller sea lions in those outer regions.

The Shelikof Strait conservation area is defined as the area bounded by straight lines and shoreline connecting the following coordinates in the following order:

58°51′ N lat. 153°15′ W long.;

58°51′ N lat. 152°00′ W long.; and, the intersection of 152°00′ W long. with Afognak Island; aligned counterclockwise around the shoreline of Afognak, Kodiak, and Raspberry Islands to 57°00′ N lat. 154°00′ W long.; 56°30′ N lat. 154°00′ W long.; 56°30′ N lat. 155°00′ W long.; 56°00′ N lat. 155°00′ W long.; 56°00′ N lat. 157°00′ W long.; and the intersection of 157°00′ W long. with the Alaska Peninsula.

The Shelikof Strait conservation area TAC apportionment will be determined annually for the A and B seasons during the specification process. A separate TAC will be determined for this area based on winter hydroacoustic survey data. The GOA TAC for areas 610, and areas 620 and 630 outside of the Shelikof Strait conservation area, will be reduced proportionally by this amount. When NMFS determines that the A or B season pollock TAC from within the Shelikof Strait conservation area has been reached, NMFS will prohibit directed fishing for pollock within Shelikof Strait.

GOA Trip limits. The Council recommended that NMFS establish a 300,000-lb (136-mt) trip limit for catcher vessels harvesting pollock in the directed pollock fisheries of the GOA to support the temporal dispersion objectives of the RPAs. This emergency interim rule prohibits a catcher vessel fishing for groundfish in the GOA from retaining on board more than 300,000-lb (136-mt) of pollock harvested in the GOA. This trip limit does not exempt vessels from existing regulations that require 100-percent retention of pollock when directed fishing for pollock is open. A vessel would have to stop fishing for pollock during a fishing trip before the 300,000-lb (136-mt) trip limit is reached to avoid a violation of either the 300,000 lb (136-mt) trip limit or the 100-percent retention requirement for pollock.

In addition, to prevent the large scale use of tender vessels to avoid the trip limit restriction, this emergency interim rule also prohibits vessels from operating as tenders in the GOA east of 157°00′ W long. Vessels operating as tenders in the GOA west of 157°00′ W long. are prohibited from retaining on board more that 600,000 lb (272 mt) (the equivalent of two fishing trips) of unprocessed pollock that was harvested in the GOA. The Council recommended that tendering west of 157°00′ W long. is necessary because smaller vessels delivering to Sand Point and King Cove may be more dependent on tenders than the larger vessels that operate east of 157°00′ W long. and deliver primarily to Kodiak.

Catcher Vessel Exclusive Fishing Seasons

The Council recommended that catcher vessels be prohibited from participating in directed fishing for pollock in both the BS and GOA in concurrent seasons, except for catcher vessels less than 125 ft (38.1 m) LOA in area 620 east of 157°00′ W long. and area 630. For example, if a catcher vessel chose to participate in the combined BS A/B season, it would not be eligible to participate in the W/C GOA until the start of the GOA C season. Similarly, if a catcher vessel chose to participate in the GOA A season, it would not be eligible to participate in the BS until the start of the next BS season, which would be the C/D season. The existing 3-day stand-down requirement at § 679.23(h) is revised to remove directed fishing for pollock from stand-down requirements, which would be redundant. However, a 3-day stand-down will remain in effect for vessels directed fishing for Pacific cod.

Revised Interim 2000 Harvest Specifications for Pollock in the BS and GOA

The regulatory changes in this emergency interim rule require revision of the 2000 interim harvest specifications for pollock in the BS and GOA. Existing regulations at 50 CFR 679.20(c)(2) do not require that interim harvest specifications for pollock in the BS and GOA be temporally or spatially dispersed. However, the BiOp concluded that the current program for managing the BS and GOA pollock fisheries could jeopardize Steller sea lions or their critical habitat. Therefore, to allow the Bering Sea and GOA pollock fisheries to commence on January 20, 2000, this emergency interim rule also adjusts the 2000 interim harvest specifications for pollock to comport with the RFRPA management measures outlined above.

The specifications for Bering Sea Subarea pollock in Table 1 of the BSAI 2000 interim harvest specifications (65 FR 60; January 3, 2000) are replaced by the following Table 4 in the preamble. This rule changes the interim specifications for pollock for two reasons: (1) To comport with the temporal and spatial dispersions required by the BiOp; and (2) to incorporate the Council's final 2000 TAC recommendations for pollock, which are increased from the 2000 proposed specifications.

Table 4.—Revised Interim 2000 Harvest Amounts for Pollock in the Bering Sea Subarea
Species & Component | Area | A/B Season (mt): Interim TAC | A/B Season (mt): A-SCA Limit | A/B Season (mt): B-SCA Limit
Pollock: ¹
CDQ | BS | 45,560 | 28,247 | 9,339
Incidental Catch Allowance (ICA) | BS | 51,255 | n/a | n/a
Inshore ² | BS | 194,769 | 81,803 | 27,268
Offshore catcher/processor ³ | BS | 155,815 | 38,564 | 12,855
Mothership | BS | 38,954 | 14,608 | 4,869
¹ The AFA requires that 10 percent of the annual pollock TAC be allocated as a directed fishing allowance for the CDQ sector. Then, NMFS is subtracting 5 percent of the remainder as an incidental catch allowance for pollock, which is not apportioned by season or area. The remainder of this amount is further allocated by sector as follows: inshore, 50 percent; catcher/processor, 40 percent; and motherships, 10 percent.
² Under the emergency rule, NMFS will close the SCA to inshore vessels greater than 99 ft (30.2 m) LOA while maintaining a sufficient SCA allowance to support fishing activities by inshore catcher vessels under 99 ft (30.2 m) LOA for the duration of the current opening. However, once the specified SCA limit is reached, all inshore vessels will be prohibited from engaging in directed fishing for pollock inside the SCA.
³ Section 210(c) of the AFA requires that not less than 8.5 percent of the directed fishing allowance allocated to listed catcher/processors shall be available for harvest only by eligible catcher vessels delivering to listed catcher/processors.

The first seasonal allowances for W/C GOA pollock in Table 1 of the GOA 2000 interim harvest specifications (65 FR 65; January 3, 2000) are replaced by the following Table 5.

Table 5.—Revised First Seasonal Allowances of Pollock in the Western (W) and Central (C) Regulatory Areas of the Gulf of Alaska (GOA)
Species and area | A season interim TAC (mt)
Pollock:
W (610) | 5,465
C (620 outside Shelikof Strait) | 3,252
C (630 outside Shelikof Strait) | 4,278
Shelikof Strait | 14,366
Total | 27,361
¹ The pollock catch limit for the Shelikof Strait conservation zone is determined by calculating the ratio of the most recent estimate of pollock biomass in Shelikof Strait (489,900 mt) divided by the most recent estimate of total pollock biomass in the GOA (933,000 mt). This ratio is then multiplied by the pollock TAC in the A season for the Western and Central areas of the GOA (27,361 mt).

Technical Amendment to Steller Sea Lion No-Trawl Zones in the Aleutian Islands Area

This emergency interim rule also makes technical changes to the existing no-trawl zones set out in Table 5 of 50 CFR part 679 by suspending it and by adding Table 20 to 50 CFR part 679. This is due to the availability of new information on the location of haulout sites as determined by NMFS during recent surveys.

Classification

The Assistant Administrator for Fisheries, NOAA (AA), has determined that this emergency interim rule is necessary to respond to an emergency situation and that it is consistent with the Magnuson-Stevens Act and other applicable laws.

Pursuant to the National Environmental Policy Act an EA/RIR was developed for this action. It was determined that this action would not have a significant impact on the human environment. The EA/RIR may be obtained in hard copy from the Alaska Regional Office (see ADDRESSES) or via the internet at www.fakr.noaa.gov. NMFS is specifically requesting comments on the EA/RIR. NMFS will respond to those comments in the proposed rule to implement permanent Steller sea lion protection measures in the BSAI and GOA pollock fisheries.

This emergency action has been determined to be significant for purposes of E.O. 12866. This rule contains no reporting, recordkeeping, or compliance requirements, and no relevant Federal rules exist which may duplicate, overlap, or conflict with this rule.

Failure to have the measures contained in this rule in place by January 20, 2000, would force delay of the start of the pollock fisheries of the BS and GOA, with significant costs to industry. As such, NMFS finds that the immediate need to effect the provisions of this emergency interim rule by January 20, 2000, in order to avoid unecessary closures that would cause extensive economic disruption to the pollock fisheries, constitutes good cause to waive the requirement to provide prior notice and an opportunity for public comment pursuant to authority set forth at 5 U.S.C. 553(b)(B), as such procedures would be impracticable and contrary to the public interest. The need for these measures to be in place by January 20, 2000, also constitutes good cause under authority set forth at 5 U.S.C. 553(d)(3) not to delay the effective date of this emergency interim rule for 30 days.

Because prior notice and opportunity for public comment are not required for this rule by 5 U.S.C. 553, or by any other law, the analytical requirements of the Regulatory Flexibility Act, 5 U.S.C. 601 et seq., are inapplicable.

The President has directed Federal agencies to use plain language in their communications with the public, including regulations. These regulations have been drafted to comply with that directive. We seek public comment on any ambiguity or unnecessary complexity arising from the language used in this emergency interim rule.

List of Subjects in 50 CFR Part 679

Alaska, Fisheries, Recordkeeping and reporting requirements.

Dated: January 19, 2000.
Andrew A. Rosenberg,
Deputy Assistant Administrator for Fisheries, National Marine Fisheries Service.

For reasons set out in the preamble, 50 CFR part 679 is amended as follows:

50 CFR CHAPTER VI

PART 679—FISHERIES OF THE EXCLUSIVE ECONOMIC ZONE OFF ALASKA

1. The authority citation for part 679 continues to read as follows:

Authority: 16 U.S.C. 773 et seq., 1801 et seq., and 3631 et seq.

2. In § 679.2, the definition “Directed fishing for pollock CDQ” is added in alphabetical order to read as follows:

§ 679.2 Definitions.

* * * * *

Directed fishing for pollock CDQ means, for purposes of enforcing closures to directed fishing for pollock CDQ elsewhere in this part, retrieving onboard a vessel a haul in which pollock represents 60 percent or more of the total groundfish catch by weight, as determined by the observer's species composition sample for each haul. The groundfish species used to calculate total catch include all the species and species categories defined in Table 1 of the annual BSAI specifications.

* * * * *

3. In § 679.7, paragraph (b) is suspended and paragraph (j) is added to read as follows:

§ 679.7 Prohibitions.

* * * * *

(j) Prohibitions specific to the GOA (applicable through July 19, 2000)—(1) Southeast Outside trawl closure. Use any gear other than non-trawl gear in the GOA east of 140° W long.

(2) Catcher vessel trip limit for pollock. Retain on board a catcher vessel at any time, more than 300,000 pounds (136 mt) of unprocessed pollock.

(3) Tender vessel restrictions for pollock.—(i) Operate as a tender vessel east of 157°00′ W long. for pollock harvested in the GOA.

(ii) Operate as a tender vessel west of 157°00′ W long. while retaining on board at any time more than 600,000 lb (272 mt) of unprocessed pollock.

* * * * *

4. In § 679.20, paragraphs (a)(5)(i)(A) and (a)(5)(ii)(B) are suspended, and new paragraphs (a)(5)(i)(C) and (a)(5)(ii)(C) are added to read as follows:

§ 679.20 General limitations.

* * * * *

(a) * * *

(5) * * *

(i) * * *

(C) BSAI seasonal allowances (applicable through July 19, 2000)—(1) General. Within any fishing year, the Regional Administrator may add or subtract the under harvest or over harvest of a seasonal allowance, by component, according to the harvest limitations here. The Steller Sea Lion Conservation Area (SCA) is defined at § 679.22(a)(11)(iv).

Bering Sea subarea | Combined A/B season, maximum overall harvest of 40% of annual vcxvccpollock TAC | Combined C/D season, maximum overall harvest of 60% of annual pollock TAC
Inside SCA | Maximum harvest limit of 20% of annual pollock TAC for A+B combined, and 15% for A or B singly | Maximum harvest limit of 4.5% of annual pollock TAC | Maximum harvest limit of 7.5% of annual pollock TAC
Season | AB | C | D |

(2) Inshore, catcher/processor, mothership, and CDQ components. The portion of the Bering Sea subarea pollock directed fishing allowance allocated to each component under sections 206(a) and 206(b) of the American Fisheries Act will be divided into two seasonal allowances corresponding to the two fishing seasons set out at § 679.23(e)(4)(i), as follows: A/B Season, 40 percent; C/D Season, 60 percent.

* * * * *

(ii) * * *

(C) GOA seasonal allowances (applicable through July 19, 2000). Each apportionment established under paragraph (a)(5)(ii)(A) of this section will be divided into four seasonal allowances corresponding to the four fishing seasons set out at § 679.23(d)(3) as follows: A Season, 30 percent; B Season, 15 percent; C Season, 30 percent; D Season, 25 percent. Within any fishing year, underharvest or overharvest of a seasonal allowance may be added to or subtracted from subsequent seasonal allowances in a manner to be determined by the Regional Administrator, provided that a revised seasonal allowance does not exceed 30 percent of the annual TAC apportionment.

* * * * *

5. In § 679.22, paragraphs (a)(7) and (b)(2) are suspended, and new paragraphs (a)(8)(iv), (a)(11) and (b)(3) are added to read as follows:

§ 679.22 Closures.

(a) * * *

(8) * * *

(iv) Pollock closure (applicable through July 19, 2000). Directed fishing for pollock is prohibited at all times within the Aleutian Islands subarea.

* * * * *

(11) Steller sea lion protection areas, Bering Sea subarea and Bogoslof District (applicable through July 19, 2000)—(i) Year-round trawl closures. Trawling is prohibited within 10 nm of each of the Steller sea lion rookeries shown in Table 12 to this part.

(ii) Seasonal trawl closures. During January 1 through June 10, or a date earlier than June 10 if directed fishing for pollock is prohibited for all sectors under § 679.20, trawling is prohibited within 20 nm of each of the Steller sea lion rookeries shown in Table 12 to this part.

(iii) Pollock closures. Directed fishing for pollock, including pollock CDQ, is prohibited within 10 or 20 nm of each of the sea lion haulout and rookery sites shown in Table 12 to this part. The radius in nm and time period that each closure is in effect are shown in Table 12 to this part.

(iv) Steller sea lion conservation area (SCA)—(A) General. Directed fishing for pollock by vessels catching pollock for processing by the inshore component, catcher/processors in the offshore component, motherships in the offshore component, or directed fishing for pollock CDQ is prohibited within the SCA for the duration of a fishing season when the Regional Administrator announces, by notification in the Federal Register, that the harvest of a seasonal limit of pollock within the SCA by an industry component reaches the applicable percentage specified in the table following paragraph (a)(11)(iv)(D) of this section.

(B) Boundaries. The SCA consists of the area of the Bering Sea subarea between 170'00' W long. and 163'00' W long., south of straight lines connecting the following points in the order listed: 55°00″ N lat. 170°00″ W long.; 55°00″ N lat. 168°00″ W long.; 55°30″ N lat. 168°00″ W long.; 55°30″ N lat. 166°00″ W long.; 56°00″ N lat. 166°00″ W long.; and 56°00″ N lat. 163°00″ W long.

(C) Seasons—Subject to other provisions of this part, directed fishing for pollock within the SCA is authorized only during the following seasons:

(1) A season. From 1200 hours, A.l.t., January 20, through 1200 hours, A.l.t., April 1;

(2) B season. From 1200 hours, A.l.t., April 1, through 1200 hours, A.l.t., June 10;

(3) C season. From 1200 hours, A.l.t., June 10, through 1200 hours, A.l.t., August 20;

(4) D season. From 1200 hours, A.l.t., August 20, through 1200 hours, A.l.t., November 1.

(D) Criteria for closure— (1) General. A directed fishing closure identified in paragraph (a)(11)(iv)(A) of this section will take effect when the Regional Administrator determines that the harvest of a seasonal limit of pollock within the SCA by an industry component reaches the applicable percentage specified in the following table:

Industry sector | Seasonal directed fishing allowance limits within the SCA by industry component (in percent): A/B season: A-SCA limit | Seasonal directed fishing allowance limits within the SCA by industry component (in percent): A/B season: B-SCA limit | Seasonal directed fishing allowance limits within the SCA by industry component (in percent): C/D season: C-SCA limit | Seasonal directed fishing allowance limits within the SCA by industry component (in percent): C/D season: D-SCA limit
Inshore | 42 | 14 | 13.5 | 22.5
Catcher/processor | 24.75 | 8.25 | 0 | 0
Mothership | 37.5 | 12.5 | 0 | 0
CDQ | 62 | 20.5 | 14 | 23

(2) Inshore catcher vessels greater than 99 ft (30.2 m) LOA. The Regional Administrator will prohibit directed fishing for pollock by vessels greater than 99 ft (30.2 m) LOA catching pollock for processing by the inshore component before reaching the inshore SCA harvest limit during the A and D seasons to accommodate fishing by vessels less than or equal to 99 ft (30.2 m) inside the SCA for the duration of the inshore seasonal opening. The Regional Administrator will estimate how much of the inshore seasonal allowance is likely to be harvested by catcher vessels less than or equal to 99 ft (30.2 m) LOA and reserve a sufficient amount of the inshore SCA allowance to accommodate fishing by such vessels after the closure of the SCA to inshore vessels greater than 99 ft (30.2 m) LOA. The Regional Administrator will prohibit directed fishing for all inshore catcher vessels within the SCA when the inshore limit specified in paragraph (a)(7)(iv)(D)(1) of this section has been met.

(b) * * *

(3) Steller sea lion protection areas (applicable through July 19, 2000)—(i) Year-round trawl closures. Trawling is prohibited in the GOA within 10 nm of the Steller sea lion rookeries shown in Table 13 to this part.

(ii) Pollock closures. Directed fishing for pollock is prohibited within 10 nm of each of the sea lion haulout and rookery sites shown in Table 13 to this part. The radius in nm and time period that each closure is in effect are shown in Table 13 to this part.

(iii) Shelikof Strait conservation area.—(A) General. Directed fishing for pollock is prohibited within the Shelikof Strait conservation area during the A and B seasons, defined at § 679.23(d)(3) of this part, when the Regional Administrator announces through notification in the Federal Register that the A or B season catch of pollock from within the Shelikof Strait conservation area reaches the amount determined by paragraph (b)(3)(iii)(C) of this section.

(B) Boundaries. The Shelikof Strait conservation area consists of the area bound by straight lines and shoreline connecting the following coordinates in the following order: 58°51′ N lat. 153°15′ W long.; 58°51′ N lat. 152°00′ W long. and the intersection of 152°00′ W long. with Afognak Island; aligned counterclockwise around the shoreline of Afognak, Kodiak, and Raspberry Islands to 57°00′ N lat. 154°00′ W long.; 56°30′ N lat. 154°00′ W long.; 56°30′ N lat. 155°00′ W long.; 56°00′ N lat. 155°00′ W long.; 56°00′ N lat. 157°00′ W long.; and the intersection of 157°00′ W long. with the Alaska Peninsula.

(C) Determination of TAC. NMFS will publish the pollock TAC for the Shelikof Strait conservation area in the annual specifications pursuant to § 679.20(c). The TAC is determined by calculating a ratio equal to the most recent estimate of pollock biomass in Shelikof Strait divided by the total pollock biomass in the GOA. NMFS will multiply this ratio by the overall pollock TAC for the GOA and then multiply that sum by the seasonal TAC apportionment to determine the Shelikof Strait apportionment.

* * * * *

6. In § 679.23, paragraphs (d)(2) and (e)(2) are suspended, and new paragraphs (d)(3), (e)(5), and (i) are added to read as follows:

§ 679.23 Seasons.

* * * * *

(d) * * *

(3) Directed fishing for pollock (applicable through July 19, 2000). Subject to other provisions of this part, directed fishing for pollock in the Western and Central Regulatory Areas is authorized only during the following four seasons:

(i) A season. From 1200 hours, A.l.t., January 20, through 1200 hours, A.l.t., March 1;

(ii) B season. From 1200 hours, A.l.t., March 15, through 1200 hours, A.l.t., May 31;

(iii) C season. From 1200 hours, A.l.t., August 20, through 1200 hours, A.l.t., September 15.

(iv) D season. From 1200 hours, A.l.t., October 1, through 1200 hours, A.l.t., November 1.

(e) * * *

(5) Directed fishing for pollock in the Bering Sea subarea (applicable through July 19, 2000).—(i) Inshore, offshore catcher/processor, and mothership components and Pollock CDQ fisheries. Subject to other provisions of this part, directed fishing for pollock by vessels catching pollock for processing by the inshore component, catcher/processors in the offshore component, and motherships in the offshore component in the Bering Sea subarea or directed fishing for pollock CDQ in the Bering Sea subarea is authorized only during the following two seasons:

(A) A/B season. From 1200 hours, A.l.t., January 20, through 1200 hours, A.l.t., June 10;

(B) C/D season. From 1200 hours, A.l.t., June 10, through 1200 hours, A.l.t., November 1;

(ii) [Reserved]

* * * * *

(i) Catcher vessel exclusive fishing seasons for pollock (applicable through July 19, 2000). Catcher vessels are prohibited from participating in directed fishing for pollock under the following conditions. Vessels less than 125 ft (38.1 m) LOA are exempt from this restriction in area 620 east of 157°00' W. long. and area 630. BS and GOA seasons are provided at § 679.23(d)(3) and § 679.23(e)(4).

If you own or operate a catcher vessel and engage in directed fishing for pollock in the— | During the— | Then you are prohibited from subsequently engaging in directed fishing for pollock in the—
Bering Sea subarea | A/B season C/D season | GOA until the following C season. GOA until the A season of the next year.
GOA | A season B season C season D season | BSAI until the following C/D season. BSAI until the following C/D season. BSAI until the A/B season of the following year. BSAI until the A/B season of the following year.

7. In 50 CFR part 679 Tables 16 through 19 are reserved; Tables 4, 5, and 6 are suspended; and Tables 12, 13, and 20 to 50 CFR part 679 are added to read as follows:

Table 12 to 50 CFR Part 679—Steller Sea Lion Protection Areas in the Bering Sea Subarea
Management area/island/site ¹, ², ³ | Boundaries to: Latitude (N) | Boundaries to: Longitude (W) | Boundaries to: Latitude (N) | Boundaries to: Longitude (W) | Directed fishing for pollock prohibited within * * * (nm): Nov. 1 through June 1 | Directed fishing for pollock prohibited within * * * (nm): June 1 through November 1 | Trawling prohibited within (nm): Jan. 1 through April 15 | Trawling prohibited within (nm): Year-round
Walrus | 57 11.00 N | 169 56.00 W |  |  | 20 | 20 |  | 10
Uliaga | 53 04.00 N | 169 47.00 W | 53 05.00 N | 169 46.00 W |  | 20 |  |
Chuginadak | 52 46.70 N | 169 41.90 W |  |  |  | 20 |  |
Kagamil | 53 02.50 N | 169 41.00 W |  |  |  | 20 |  |
Samalga | 52 46.00 N | 169 15.00 W |  |  |  | 20 |  |
Adugak | 52 55.00 N | 169 10.50 W |  |  | 20 | 20 |  | 10
Umnak/Cape Aslik | 53 25.00 N | 168 24.50 W |  |  | 20 | 20 |  |
Ogchul | 52 59.71 N | 168 24.24 W |  |  | 20 | 20 |  | 10
Bogoslof/Fire Island | 53 55.69 N | 168 02.05 W |  |  | 20 | 20 |  | 10
Emerald | 53 17.50 N | 167 51.50 W |  |  |  | 20 |  |
Unalaska/Cape Izigan | 53 13.64 N | 167 39.37 W |  |  | 20 | 20 |  |
Unalaska/Bishop Pt | 53 58.40 N | 166 57.50 W |  |  | 20 | 20 |  |
Akutan/Reef-lava | 54 08.10 N | 166 06.19 W | 54 09.10 N | 166 05.50 W | 20 | 20 |  |
Old Man Rocks | 53 52.20 N | 166 04.90 W |  |  | 20 | 20 |  |
Akutan/Cape Morgan | 54 03.39 N | 165 59.65 W | 54 03.70 N | 166 03.68 W | 20 | 20 | 20 | 10
Rootok | 54 03.90 N | 165 31.90 W | 54 02.90 N | 165 29.50 W |  | 20 |  |
Akun/Billings Head | 54 17.61 N | 165 32.06 W | 54 17.57 N | 165 31.71 W | 20 | 20 | 20 | 10
Tanginak | 54 12.00 N | 165 19.40 W |  |  | 20 |  |  |
Tigalda/Rocks NE | 54 09.60 N | 164 59.00 W | 54 09.12 N | 164 57.18 W | 20 | 20 |  |
Unimak/Cape Sarichef | 54 34.30 N | 164 56.80 W |  |  | 20 | 20 |  |
Aiktak | 54 10.99 N | 164 51.15 W |  |  | 20 |  |  |
Ugamak | 54 13.50 N | 164 47.50 W | 54 13.00 N | 164 47.00 W | 20 | 20 | 20 | 10
Round | 54 12.05 N | 164 46.60 W |  |  |  | 20 |  |
Sea Lion Rock (Amak) | 55 27.79 N | 163 12.24 W |  |  | 20 | 20 | 20 | 10
Amak and rocks | 55 24.20 N | 163 09.60 W | 55 25.90 N | 163 09.90 W | 20 | 20 |  |
¹ Three nm NO TRANSIT ZONES are described at 50 CFR 227.12(a)(2) of this title.
² Closure zones around many of these sites also extend into statistical area 610 of the Gulf of Alaska Management Area.
³ Where two sets of coordinates are given, the baseline extends in a clock-wise direction from the first set of geographic coordinates along the shoreline at mean lower-low water to the second set of coordinates. Where only one set of coordinates is listed, that location is the base point.

Table 13 to 50 CFR Part 679—Steller Sea Lion Protection Areas in the Gulf of Alaska
Management area/island/site 1, 2, 3 | Boundaries to: Latitude (N) | Boundaries to: Longitude (W) | Boundaries to: Latitude (N) | Boundaries to: Longitude (W) | Directed fishing for pollock prohibited within . . . (nm): Nov. 1 through June 1 | Directed fishing for pollock prohibited within . . . (nm): June 1 through November 1 | Trawling prohibited within . . . (nm) (year-round)
Bird | 54 40.16 N | 163 17.57 W |  |  | 10 | 10 |
South Rocks | 54 18.14 N | 162 41.52 W |  |  | 10 | 10 |
Clubbing Rocks | 54 41.98 N | 162 26.74 W | 54 42.00 N | 162 26.50 W | 10 | 10 | 10
Pinnacle Rock | 54 46.06 N | 161 45.85 W |  |  | 10 | 10 | 10
Sushilnoi Rocks | 54 49.30 N | 161 42.73 W |  |  |  | 10 |
Olga Rocks | 55 00.45 N | 161 29.81 W | 54 59.09 N | 161 30.89 W | 10 | 10 |
Jude | 55 15.75 N | 161 06.27 W |  |  | 10 | 10 |
Sea Lion Rocks (Shumagins) ⁴ | 55 04.70 N | 160 31.04 W |  |  | 10 | 10 |
The Whaleback | 55 16.82 N | 160 05.04 W |  |  | 10 | 10 |
Chernabura | 54 45.18 N | 159 32.99 W | 54 44.87 N | 159 35.74 W | 10 | 10 | 10
Castle Rock | 55 16.47 N | 159 29.77 W |  |  |  | 10 |
Atkins | 55 03.50 N | 159 18.50 W |  |  | 10 | 10 | 10
Spitz | 55 46.80 N | 158 53.20 W |  |  |  | 10 |
Mitrofania | 55 50.00 N | 158 42.00 W |  |  | 10 | 10 |
Kak | 56 17.30 N | 157 50.10 W |  |  |  | 10 |
Lighthouse Rocks | 55 46.79 N | 157 24.89 W |  |  | 10 | 10 |
Sutwik | 56 31.05 N | 157 20.47 W | 56 32.00 N | 157 21.00 W |  | 10 |
Chowiet | 56 00.54 N | 156 41.42 W | 56 00.30 N | 156 41.60 W | 10 | 10 | 10
Nagai Rocks | 55 50.00 N | 155 46.00 W |  |  | 10 | 10 |
Chirikof | 55 46.50 N | 155 39.50 W | 55 46.44 N | 155 43.46 W | 10 | 10 | 10
Puale Bay | 57 40.60 N | 155 23.10 W |  |  | 10 | 10 |
Kodiak/Point Ikolik | 57 17.12 N | 154 48.29 W |  |  | 10 |  |
Takli | 58 01.75 N | 154 31.25 W |  |  |  | 10 |
Cape Gull | 58 11.50 N | 154 09.60 W | 58 12.50 N | 154 10.50 W |  | 10 |
Sitkinak/Cape Sitkinak | 56 34.30 N | 153 50.96 W | 56 34.20 N | 153 51.05 W | 10 | 10 |
Kodiak/Cape Ugat | 57 52.41 N | 153 50.97 W |  |  | 10 | 10 |
Kodiak/Cape Barnabas | 57 10.20 N | 152 53.05 W |  |  | 10 | 10 |
Kodiak/Gull Point | 57 21.45 N | 152 36.30 W |  |  | 10 | 10 |
Shakun Rock | 58 32.80 N | 153 41.50 W |  |  | 10 | 10 |
Twoheaded Island | 56 54.50 N | 153 32.75 W | 56 53.90 N | 153 33.74 W | 10 | 10 |
Cape Douglas (Shaw Island) | 59 00.00 N | 153 22.50 W |  |  |  | 10 |
Latax Rocks | 58 40.10 N | 152 31.30 W |  |  | 10 | 10 |
Ushagat/SW | 58 54.75 N | 152 22.20 W |  |  |  | 10 |
Ugak | 57 23.60 N | 152 17.50 W | 57 21.90 N | 152 17.40 W |  | 10 |
Sea Otter Island | 58 31.15 N | 152 13.30 W |  |  | 10 | 10 |
Long | 57 46.82 N | 152 12.90 W |  |  | 10 |  |
Kodiak/Cape Chiniak | 57 37.90 N | 152 08.25 W |  |  | 10 | 10 |
Sugarloaf | 58 53.25 N | 152 02.40 W |  |  | 10 | 10 | 10
Sea Lion Rocks (Marmot) | 58 20.53 N | 151 48.83 W |  |  | 10 | 10 |
Marmot | 58 13.65 N | 151 47.75 W | 58 09.90 N | 151 52.06 W | 10 | 10 | 10
Perl | 59 05.75 N | 151 39.75 W |  |  | 10 | 10 |
Outer (Pye) Island | 59 20.50 N | 150 23.00 W | 59 21.00 N | 150 24.50 W | 10 | 10 | 10
Steep Point | 59 29.05 N | 150 15.40 W |  |  |  | 10 |
Chiswell Islands | 59 36.00 N | 149 34.00 W |  |  | 10 | 10 |
Rugged Island | 59 49.80 N | 149 23.30 W | 59 51.00 N | 149 25.30 W | 10 |  |
Point Elrington ⁴ | 59 56.00 N | 148 15.20 W |  |  |  |  |
Wooded Island (Fish) | 59 52.90 N | 147 20.65 W |  |  | 10 | 10 |
The Needles ⁴ | 60 06.64 N | 147 36.17 W |  |  |  |  |
Glacier Island | 60 51.30 N | 147 14.50 W |  |  | 10 | 10 |
Seal Rocks | 60 09.78 N | 146 50.30 W |  |  | 10 | 10 |
Cape Hinchinbrook | 60 14.00 N | 146 38.50 W |  |  |  | 10 |
Hook Point | 60 20.00 N | 146 16.50 W |  |  |  | 10 |
Cape St. Elias | 59 48.00 N | 144 35.50 W |  |  | 10 | 10 |
¹ Three nm NO TRANSIT ZONES are described at 50 CFR 227.12(a)(2) of this title.
² Additional closures along the Aleutian Island chain that extend into statistical area 610 of the Gulf of Alaska are displayed in Table 13 to this part.
³ Where two sets of coordinates are given, the baseline extends in a clock-wise direction from the first set of geographic coordinates along the shoreline at mean lower-low water to the second set of coordinates. Where only one set of coordinates is listed, that location is the base point.
⁴ Vessels less than or equal to 60 ft. (18.3m) LOA are exempt from the 20 nm closure at Sea Lion Rocks.
⁵ Restrictions at Point Elrington and The Needles will be considered by the Alaska Board of Fisheries because these areas fall completely within the State of Alaska management area of Prince William Sound.

Table 20 to 50 CFR Part 679—Steller Sea Lion Protection Areas in the Aleutian Islands Subarea
Management area/island/site ¹, ², ³ | Boundaries to: Latitude (N) | Boundaries to: Longitude (W) | Boundaries to: Latitude (N) | Boundaries to: Longitude (W) | Trawling prohibited within—(nm) year-round
Yunaska Island | 52 41.40 N | 170 36.35 W |  |  | 10
Kasatochi Island | 52 11.11 N | 175 31.00 W |  |  | 10
Adak Island | 51 35.50 N | 176 57.10 W | 51 37.50 N | 176 59.60 W | 10
Gramp Rock | 51 28.87 N | 178 20.58 W |  |  | 10
Tag Island | 51 33.50 N | 178 34.50 W |  |  | 10
Ulak Island | 51 18.90 N | 178 58.90 W | 51 18.70 N | 178 59.60 W | 10
Semisopochnoi/Pochnoi Point | 51 57.30 N | 179 46.00 E |  |  | 10
Semisopochnoi/Petrel Point | 52 01.40 N | 179 36.90 E | 52 01.50 N | 179 39.00 E | 10
Amchitka Island/East Cape | 51 22.26 N | 179 27.93 E | 51 22.00 N | 179 27.00 E | 10
Amchitka Is/Column Rocks | 51 32.32 N | 178 49.28 E |  |  | 10
Ayugadak Point | 51 45.36 N | 178 24.30 E |  |  | 10
Kiska Island/Lief Cove | 51 57.19 N | 177 20.41 E | 51 57.24 N | 177 20.49 E | 10
Kiska Island/Cape St. Stephen | 51 52.50 N | 177 13.00 E | 51 53.50 N | 177 12.00 E | 10
Buldir Island | 52 20.38 N | 175 53.85 E | 52 20.25 N | 175 54.03 E | 10
Agattu Island/Cape Sabek | 52 22.50 N | 173 43.30 E | 52 21.80 N | 173 41.40 E | 10
Agattu Island/Gillon Pt | 52 24.13 N | 173 21.31 E |  |  | 10
Attu Island/Caper Wrangell | 52 55.36 N | 172 27.22 E | 52 55.34 N | 172 27.55 E | 10
Seguam Island | 52 21.05 N | 172 34.40 W | 52 21.02 N | 172 33.06 W | 20
Agligadak Island | 52 06.09 N | 172 54.23 W |  |  | 20
¹ Three nm NO TRANSIT ZONES are described at 50 CFR 227.12(a)(2) of this title.
² Closure zones around many of these sites also extend into statistical area 610 of the Gulf of Alaska Management Area.
³ Where two sets of coordinates are given, the baseline extends in a clock-wise direction from the first set of geographic coordinates along the shoreline at mean lower-low water to the second set of coordinates. Where only one set of coordinates is listed, that location is the base point.

[FR Doc. 00-1708 Filed 1-20-00; 3:26 pm]

BILLING CODE 3510-22-P